DEPARTMENT OF TRANSPORTATION

Federal Aviation Administration

14 CFR Part 39

[Docket No. 91-NM-96-AD]

RIN 2120-AA64

Airworthiness Directives; Airbus Industrie Model A300 B2-1C, B2K-3C, and B2-203 Series Airplanes

AGENCY: Federal Aviation Administration, DOT.

ACTION: Proposed rule; withdrawal.

SUMMARY: This action withdraws a notice of proposed rulemaking (NPRM) that proposed a new airworthiness directive (AD), applicable to certain Airbus Model A300 B2 series airplanes. That action would have required a supersedure of an existing AD that currently requires a one-time visual inspection and ultrasonic inspection to detect cracks in the wing front spar webs, and repair, if necessary. The NPRM would have required a visual inspection and repetitive ultrasonic inspections to detect cracks in the front face of the front spar on both wings between ribs 10 and 11, and repair, if necessary. Since the issuance of the NPRM, the Federal Aviation Administration (FAA) has issued separate rulemaking to require these same actions. Accordingly, the proposed rule is withdrawn.

FOR FURTHER INFORMATION CONTACT: Norman B. Martenson, Manager, International Branch, ANM-116, FAA, Seattle Aircraft Certification Office, 1601 Lind Avenue SW, Renton, Washington 98055-4056; telephone (425) 227-2110; fax (425) 227-1149.

SUPPLEMENTARY INFORMATION: A proposal to amend part 39 of the Federal Aviation Regulations (14 CFR part 39) to add a new airworthiness directive (AD), applicable to certain Airbus Model A300 B2 series airplanes, was published in the Federal Register as a Notice of Proposed Rulemaking (NPRM) on June 10, 1991 (56 FR 26621). The proposed rule would have superseded an existing airworthiness directive (AD) that requires a one-time visual and ultrasonic inspection to detect cracks in the wing spar webs, and repair, if necessary. The proposed rule would have required a visual inspection and repetitive ultrasonic inspections to detect cracks in the front face of the front spar of both wings between ribs 10 and 11, and repair, if necessary. The proposed rule was prompted by a report of a crack found on an in-service airplane in the wing front spar web between ribs 10 and 11. The proposed actions were intended to detect and correct cracking, which could result in reduced structural integrity of the wing front spar.

Actions That Occurred Since the NPRM Was Issued

Since the issuance of the NPRM, the FAA issued an immediately adopted rule, AD 91-18-01, amendment 39-8004 (56 FR 40771, August 16, 1991), which requires repetitive high frequency eddy current inspections to detect cracks in the vertical web of the wing front spar between ribs 10 and 11, and repair, if necessary. Accomplishment of those actions adequately addresses the unsafe condition identified in this NPRM.

FAA's Conclusions

Since issuance of AD 91-18-01, the FAA has determined that the proposed actions of the NPRM (Docket 91-NM-96-AD) are unnecessary.

Withdrawal of this notice of proposed rulemaking constitutes only such action, and does not preclude the agency from issuing another notice in the future, nor does it commit the agency to any course of action in the future.

Regulatory Impact

Since this action only withdraws a notice of proposed rulemaking, it is neither a proposed nor a final rule and therefore is not covered under Executive Order 13132, the Regulatory Flexibility Act, or DOT Regulatory Policies and Procedures (44 FR 11034, February 26, 1979).

List of Subjects in 14 CFR Part 39

Air transportation, Aircraft, Aviation safety, Safety.

The Withdrawal

Accordingly, the notice of proposed rulemaking, Docket 91-NM-96-AD, published in the Federal Register on June 10, 1991 (56 FR 26621), is withdrawn.

Issued in Renton, Washington, on March 6, 2000.
Donald L. Riggin,
Acting Manager, Transport Airplane Directorate, Aircraft Certification Service.

[FR Doc. 00-5892 Filed 3-9-00; 8:45 am]

BILLING CODE 4910-13-P